ENVIRONMENTAL PROTECTION AGENCY

[EPA-R09-OAR-2022-0135; FRL-9524-01-R9]

Adequacy Status of Motor Vehicle Emissions Budgets in 1997 Annual PM2.5 Serious Area and Section 189(d) Attainment Plan Revision for San Joaquin Valley; California

AGENCY: Environmental Protection Agency (EPA).

ACTION: Notice of adequacy.

SUMMARY: The Environmental Protection Agency (EPA or “Agency”) is notifying the public that the Agency has found motor vehicle emissions budgets (“budgets”) adequate in a California state implementation plan (SIP) submittal for the San Joaquin Valley. Specifically, our finding relates to budgets in the area's “Attainment Plan Revision for the 1997 Annual PM2.5 Standard” (“15 μg/m³ SIP Revision”), submitted by the California Air Resources Board (CARB) on November 8, 2021. We find that these budgets are adequate for transportation conformity purposes for the 1997 annual fine particulate matter (PM2.5) national ambient air quality standards (NAAQS). Upon the effective date of this notice of adequacy, the San Joaquin Valley metropolitan planning organizations (MPOs) and the U.S. Department of Transportation must use these adequate budgets in future transportation conformity determinations. Furthermore, once the San Joaquin Valley MPOs have used the adequate budgets to demonstrate conformity of their transportation plans to the 15 µg/m³ SIP Revision, the conformity freeze put in place as of December 27, 2021, will be lifted.

DATES: This finding is effective February 25, 2022.

FOR FURTHER INFORMATION CONTACT: Ashley Graham, Air Planning Office (ARD-2), EPA Region IX, 75 Hawthorne Street, San Francisco, CA 94105; (415) 972-3877 or graham.ashleyr@epa.gov.

SUPPLEMENTARY INFORMATION: Throughout this document, “we,” “us,” or “our” refer to the EPA.

This notice is simply an announcement of a finding that we have already made. By letter dated February 1, 2022, EPA Region IX notified CARB that the budgets in the 15 µg/m³ SIP Revision for the reasonable further progress (RFP) year of 2020 and the attainment year of 2023 are adequate.¹ The finding is available at the EPA's conformity website.² We announced the availability of the 15 µg/m³ SIP Revision and related motor vehicle emissions budgets on the EPA's transportation conformity website on November 15, 2021, and requested comments by December 15, 2021. We received no comments in response to the adequacy review posting. The adequate motor vehicle emissions budgets are provided in the following table:

¹ Letter dated February 1, 2022, from Matthew Lakin, Acting Director, Air and Radiation Division, EPA Region IX, to Richard Corey, Executive Officer, CARB.

² https://www.epa.gov/state-and-local-transportation/conformity-adequacy-review-region-9.

Adequate Motor Vehicle Emission Budgets for the San Joaquin Valley for the 1997 Annual PM2.5 NAAQS
[Annual average, tpd]
County | 2020 (RFP year): PM2.5 | 2020 (RFP year): NOX | 2023 (attainment year): PM2.5 | 2023 (attainment year): NOX
Fresno | 0.9 | 25.3 | 0.8 | 15.1
Kern (San Joaquin Valley portion) | 0.8 | 23.3 | 0.7 | 13.3
Kings | 0.2 | 4.8 | 0.2 | 2.8
Madera | 0.2 | 4.2 | 0.2 | 2.5
Merced | 0.3 | 8.9 | 0.3 | 5.3
San Joaquin | 0.6 | 11.9 | 0.6 | 7.6
Stanislaus | 0.4 | 9.6 | 0.4 | 6.1
Tulare | 0.4 | 8.5 | 0.4 | 5.2

Transportation conformity is required by Clean Air Act section 176(c). The EPA's conformity rule requires that transportation plans, transportation improvement programs, and transportation projects conform to a state's SIP and establishes the criteria and procedures for determining whether or not they conform. Conformity to a SIP means that transportation activities will not produce new air quality violations, worsen existing violations, or delay timely attainment of the NAAQS.

The criteria we use to determine whether a SIP's motor vehicle emissions budgets are adequate for conformity purposes are outlined in 40 CFR 93.118(e)(4), promulgated on August 15, 1997.³ We further described our process for determining the adequacy of submitted SIP budgets in our final rule dated July 1, 2004, and we used the information in these resources in making our adequacy determination.⁴ Please note that an adequacy review is separate from the EPA's completeness review and should not be used to prejudge the EPA's ultimate action on the SIP submittal. Even if we find a budget adequate, the SIP submittal could later be disapproved.

³ 62 FR 43780, 43781-43783.

⁴ 69 FR 40004, 40038-40047.

Pursuant to 40 CFR 93.104(e), within two years of the effective date of this notice, San Joaquin Valley MPOs and the U.S. Department of Transportation will need to demonstrate conformity to the new budgets if the demonstration has not already been made.⁵ Once the San Joaquin Valley MPOs have used the adequate budgets to demonstrate conformity of their transportation plans to the 15 µg/m³ SIP Revision, the conformity freeze put in place as of December 27, 2021, under 40 CFR 93.120(a)(2) ⁶ will be lifted. For demonstrating conformity to the budgets in this plan, the on-road motor vehicle emissions from implementation of the transportation plan or program should be projected consistently with the budgets in this plan, i.e., by taking the emissions results derived from CARB's EMFAC model (short for EMission FACtor) and then rounding the emissions up to the nearest tenth of a ton per day. The trading mechanism for the budgets in the 15 µg/m³ SIP Revision for the 1997 annual PM2.5 NAAQS is not yet approved. The EPA will consider approval of the trading mechanism as part of the action on the submittal.

⁵ 73 FR 4420 (January 24, 2008).

⁶ On November 26, 2021 (86 FR 67329), the EPA disapproved the RFP and attainment demonstrations and associated budgets in the “2018 Plan for the 1997, 2006, and 2012 PM2.5 Standards” for the 1997 annual PM2.5 NAAQS. Upon the effective date of that final action (i.e., December 27, 2021), the San Joaquin Valley area became subject to a conformity freeze under 40 CFR 93.120 of the transportation conformity rule.

Authority: 42 U.S.C. 7401 et seq.

Dated: February 3, 2022.
Martha Guzman Aceves,
Regional Administrator, Region IX.

[FR Doc. 2022-02771 Filed 2-9-22; 8:45 am]

BILLING CODE 6560-50-P